DEPARTMENT OF HEALTH AND HUMAN SERVICES

Centers for Medicare & Medicaid Services

[Document Identifiers: CMS-10555]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by January 13, 2016.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Small Business Health Options Program (SHOP) Effective Date and Termination Notice Requirements; Use: The CMS is requiring for plan years beginning on or after January 1, 2016, the SHOP must ensure that a QHP issuer notifies qualified employees, enrollees, and new enrollees in a QHP through the Small Business Health Options Program (SHOP) of the effective date of coverage. As required by the Patient Protection and Affordable Care Act; HHS Notice of Benefit and Payment Parameter for 2016 (CMS-9944-F), which went on display on February 20, 2015, if any enrollee's coverage through the SHOP is terminated due to non-payment of premiums or a loss of the enrollee's or employer group's eligibility to participate in the SHOP, the SHOP must notify the enrollee or the qualified employer of the termination of such coverage. In the termination of coverage, the SHOP must include the termination date and reason for termination to the enrollee or qualified employer.

To aid in understanding levels of awareness and customer services needs associated with the SHOP associated with the Exchanges established by the Affordable Care Act, CMS will engage in collecting primary qualitative and quantitative research from Exchange target audiences. These surveys are part of a broader data collection effort designed to support the program goal to improve customer satisfaction for people and small businesses that are eligible for coverage through the SHOP. The CMS has designed three surveys to target different audiences, specifically agents and brokers, employers, and employees. Form Number: CMS-10555 (OMB Control Number: 0938-New); Frequency: Annually; biannually; Affected Public: Federal Government, State Governments, Private Sector (Business or other for-profits and Not-for-profit institutions); Number of Respondents: 2,885; Total Annual Responses: 5,770; Total Annual Hours: 50,425. (For policy questions regarding this collection contact Christelle Jang at (410) 786-8438.)

Dated: December 9, 2015.
William N. Parham, III,
Director, Paperwork Reduction Staff, Office of Strategic Operations and Regulatory Affairs.

[FR Doc. 2015-31398 Filed 12-11-15; 8:45 am]

BILLING CODE 4120-01-P